DEPARTMENT OF AGRICULTURE

Forest Service

RIN 0596-AC63

Forest Vegetation Resource Planning

AGENCY: Forest Service, USDA.

ACTION: Notice of issuance of agency interim directive; request for comment.

SUMMARY: The Forest Service is issuing an interim directive to Forest Service Handbook 1909.12, chapter 60, to guide agency employees on timber and forest vegetation resource planning, including guidance on identifying lands generally suitable for timber production and long-term sustained-yield capacity. This interim directive revises Forest Service Handbook 1902.12_60, issued January 31, 2006. The intended effect of issuance of this interim directive is to provide consistent overall guidance to Forest Service line officers and agency employees in developing, amending, or revising land management plans for units of the National Forest System regarding forest vegetation resource planning. Public comment is invited and will be considered in developing a final directive.

DATES: Interim directive number 1909.12-2008-1 is effective August 28, 2008. Comments must be received in writing by October 27, 2008.

ADDRESSES: Send written comments concerning this interim directive through one of the following methods: E-mail: PlanningDirective2008@fs.fed.us. Include “planning directives” in the subject line of the message. Fax: 202-205-1012. Please identify your comments by including “planning directives” on the cover sheet or the first page. Mail: Planning Directives; Forest Service; U.S. Department of Agriculture; Ecosystem Management Coordination; Mailstop 1104, 3rd Floor—Center Wing; Washington, DC 20250-1104. All comments, including names and addresses when provided, are placed in the record and are available for public inspection and copying. Persons wishing to inspect the comments are encouraged to call ahead (202-205-0895) to facilitate entrance into the building.

The directive is available electronically from the Forest Service via the World Wide Web/Internet at www.fs.fed.us/im/directives or at www.fs.fed.us/emc/nfma/index.htm. You may request a compact disc (CD) copy of the interim directive by contacting Regis Terney by e-mail (rterney@fs.fed.us), by phone at 1-866-235-6652 or 202-205-0895, or by mail at Regis Terney, Forest Service, U.S. Department of Agriculture, Mailstop 1104, EMC, 3 Central, 1400 Independence Avenue, SW., Washington, DC 20050-1104.

FOR FURTHER INFORMATION CONTACT: Regis Terney, Planning Specialist, Ecosystem Management Coordination Staff, 202-205-0895.

SUPPLEMENTARY INFORMATION: The Forest Service Directive System consists of the Forest Service Manual (FSM) and the Forest Service Handbook (FSH), which contain the Agency's policies, practices, and procedures and serve as the primary basis for the internal management and control of programs and administrative direction to Forest Service employees. The directives for all Agency programs are set out on the World Wide Web/Internet at http://www.fs.fed.us/im/directives.

The FSM contains legal authorities, objectives, policies, responsibilities, instructions, and guidance needed on a continuing basis by Forest Service line officers and primary staff to plan and execute programs and activities, while the FSH is the principal source of specialized guidance and instruction for carrying out the policies, objectives, and responsibilities contained in the FSM.

The Forest Service, U.S. Department of Agriculture, issued final Agency directives for National Forest System Land Management Planning and published a notice of issuance of Agency final directives in the Federal Register (71 FR 5124, Jan. 31, 2006). The final Agency directives included FSH 1909.12, chapter 60, Forest Vegetation Resource Planning. On April 21, 2008, the Department replaced the 2005 final rule (2005 rule) (70 FR 1022, Jan. 5, 2005), as amended March 3, 2006 (71 FR 10837) with final planning regulations for the National Forest System at 36 CFR part 219, subpart A (73 FR 21468). This 2008 planning rule provides broad programmatic direction in developing and carrying out land management planning. The rule explicitly directs the Chief of the Forest Service to establish planning procedures in the Forest Service Directive System (36 CFR 219.1(c)).

This interim directive makes necessary minor changes to the January 31, 2006, directive to clarify the procedures for identifying lands available for timber harvest and suitable for timber production, long-term sustained-yield capacity (LTSYC), and timber sale program quantity (TSPQ) to aid consistent interpretation and application of the direction by Agency personnel. Our Washington Office review of several proposed land management plans showed that these clarifications are necessary. These changes in procedural and technical details associated with carrying out the 2008 planning rule at 36 CFR part 219 are needed immediately for use by units beginning plan revisions or resuming plan revisions under the 2008 rule. About 40 revision efforts are currently ongoing. The Forest Service expects 38 unit supervisors to use the 2008 planning rule to finish their plan revisions. In the next few months, many of these units will be discussing timber harvest availability, timber production suitability, LTSYC, and TSPQ with the public. It is imperative that these units use the proper procedures when discussing these important issues with the public.

Summary of Revisions

Section 60.5. This section of the directive provides definitions. The interim directive revises the term “lands generally suited for timber harvest” to be “lands generally available for timber harvest.” It revises the term “not suitable for timber production” to be “lands not suitable for timber production.” The interim directive changes the definitions for forest regulation, lands generally available for timber harvest, lands not suitable for timber production, long-term sustained-yield capacity, planning horizon, stand, and suitability. Throughout this interim directive, the Agency substitutes the word “available” for “suitable” when referring to the use of timber harvest as a tool. Suitability in NFMA refers to resource uses of land. NFMA specifically requires the identification of the suitability of lands for resource management in 16 U.S.C. 1604(g)(2)(A) and also the identification of lands not suited for timber production (a specific resource use) in 16 U.S.C. 1604(k). The use of the term “available” in referring to timber harvest is intended to reduce confusion over whether timber harvest is an objective (which it is not) or a tool to achieve specific resource uses or objectives (which it is). The interim directive changes the definition of “forest regulation” and “stand” to agree with silvicultural definitions in FSM 2470.5. The definition of “lands generally available for timber harvest,” “lands not suitable for timber production,” “long-term sustained-yield timber capacity,” “planning horizon,” and “suitability” are clarified to agree with the 2008 planning rule.

Section 61. This section of the directive describes the vegetation management requirements at the project level. The interim directive makes editorial changes so that restocking requirements will be consistently described in plans in terms of “reasonable assurance of adequate restocking.”

Section 62. This section of the directive describes procedures for identifying the availability of lands for timber harvest and suitability of lands for timber production. The interim directive revises the term “lands generally not suitable for timber harvest” to be “lands generally not available for timber harvest.” The interim directive now provides two bases for identifying lands as not being available for timber harvest: (1) Legal, policy, physical, or biological conditions (the one basis set out in the current handbook), and (2) incompatibility with desired conditions and objectives. The second category sets forth a new, additional concept to consider when determining lands generally not available for timber harvest. The interim directive also clarifies categories of lands generally not available for timber harvest, lands generally available for timber harvest, and lands not suitable for timber production.

Section 62, exhibit 01. The interim directive changes the exhibit to conform to the revision and clarification of section 62.

Section 62.1. The interim directive changes the identification criteria of lands generally not available for timber harvest into a two-step process, so that incompatibility with desired conditions and objectives is a basis for identifying land as being not available for timber harvest even where legal, policy, physical, or biological criteria would not require such a determination.

Section 62.11. The interim directive also clarifies the identification of areas where timber harvest is generally prohibited by statute, Executive order, regulation, or policy. The interim directive clarifies that this category includes, but is not limited to, congressionally designated wilderness and congressionally designated wilderness study areas.

Section 62.12. The interim directive adds a cross-reference to the planning rule and adds the phase “or substantial and permanent impairment of the productivity of the land” to the list of criteria for estimating where it is not possible to carry out timber harvest activities without irreversible damage.

Section 62.13. The interim directive revises the focus from “identifying lands where there is reasonable assurance of restocking” to “where there is no reasonable assurance that the land can be adequately restocked.” The interim directive clarifies that the determination is based on existing technology and research findings. The interim directive clarifies that the estimates of no reasonable assurance of adequate restocking made during land management planning must be refined during project-level analyses.

Section 62.2. At enumerated paragraph 1, clarifies that “lands suitable for timber production” are the same as “lands where timber production achieves, is compatible with, or could contribute to the achievement of desired conditions and objectives established by the plan. Revises enumerated paragraph 2 to agree with the words of 36 CFR 219.12(a)(4) by changing the existing words of: “Other lands where harvest for multiple-use objectives other than timber production, including salvage sales, may take place as described in section 62.22.” to “Other lands where trees may be harvested for multiple use values other than timber production as described in section 62.22.”

Section 62.21. Changes the caption from “Timber Production Achieves or is Compatible With Desired Conditions and Resource Objectives” to “Lands Suitable for Timber Production.” Adds two criteria to the enumerated criteria for lands suitable for timber production, (1) lands are not withdrawn by law or policy and (2) lands are forest land. Clarifies that regeneration of the timber stand is always intended for lands suitable for timber production. Removed the last sentence from this section about the planning documents describing why timber harvest is a cost-effective tool and added it to section 62.22.

Section 62.22. The interim directive clarifies the distinction between “other lands” (where trees may be harvested for multiple use values other than timber production) and “lands suitable for timber production.”

Section 62.3. Removed the enumerated list of criteria for lands generally not suitable for timber production because it was redundant with the criteria at section 62.21.

Section 63.1. For simplicity changed the term “timber production achieves or is compatible with desired conditions and resource objectives” to “lands suitable for timber production” in this section and throughout the document. The interim directive revises direction for estimating the long-term sustained-yield capacity (LTSYC) by clarifying that LTSYC must not be constrained by current budgets. In addition, the interim directive sets forth that in those cases where a national forest has less than 200,000 acres of commercial forest land (FSH 2409.13, sec. 05) the responsible official may use two or more national forests for purposes of determining the LTSYC. The current directive limits the use of two or more national forests for determining LTSYC to where a national forest has less than 200,000 acres of lands suitable for timber production. This change in direction brings the interim directive in agreement with 16 U.S.C. 1611 and the long-standing definition of commercial forest land set forth in FSH 2409.13 (Timber Resource Planning Handbook). The interim directive also sets forth that if the responsible official decides a substantive change of the LTSYC estimate in the plan is needed, the responsible official shall amend or revise the plan.

Section 63.4. The interim directive clarifies that a substantive change of the timber sale program quantity (TSPQ) estimate in the approved land management plan must be changed by plan amendment or plan revision.

Section 63.5. To meet multiple-use objectives, the responsible official may establish a TSPQ that exceeds the LTSYC under 16 U.S.C. 1611. The interim directive clarifies that the responsible official may exceed the LTSYC limit when selling timber from salvage harvesting, sanitation harvesting, or from wood fiber not represented in the utilization standards used in calculating LTSYC. At enumerated paragraph 2, the interim directive changes the term “timber production achieves or is compatible with desired conditions and resource objectives” to “lands suitable for timber production.” The interim directive clarifies direction for assessing whether the TSPQ exceeds LTSYC by stating that responsible officials, at their discretion, may combine categories of lands generally available for timber harvest for assessing whether TSPQ exceeds LTSYC for the forest as a whole.

Section 64. The interim directive clarifies that a plan that contains lands available for timber harvest must include guidance developed pursuant to 36 CFR 219.12(b)).

Section 64.2. Clarifies that in some cases, even within lands suitable for timber production, timber harvest for purposes other than timber production may meet the “adequate restocking” requirement when the management intent is not to replace trees.

Section 64.3. The interim directive adds a requirement that land management plans must include guidance for maximum size limits under 36 CFR 219.12(b)(2).

Section 65.5. Changes the caption for section 65.5 to “Plan Exhibits.”

Environmental Impact

This interim directive to Forest Service Handbook (FSH) 1909.12, chapter 60 would clarify direction and guide agency employees on timber and forest vegetation resource planning, including guidance on identifying lands generally suitable for timber production and long-term sustained-yield capacity. This interim directive supersedes Forest Service Handbook 1902.12_60, issued January 31, 2006. The intended effect of issuance of this interim directive is to provide consistent overall guidance to Forest Service line officers and agency employees in developing, amending, or revising land management plans for units of the National Forest System regarding forest vegetation resource planning. Section 31.12 of FSH 1909.15 (57 FR 43208; Sept. 18, 1992) excludes from documentation in an environmental assessment or impact statement “rules, regulations, or policies to establish servicewide administrative procedures, program processes, or instructions.” The agency's conclusion is that this final directive, which simply sets out guidance for the planning process, falls within this category of actions and that no extraordinary circumstances exist as currently defined that require preparation of an environmental assessment or an environmental impact statement.

Regulatory Impact

This interim directive has been reviewed under USDA procedures and Executive Order 12866, Regulatory Planning and Review. It has been determined that this is not a significant action. This interim directive to clarify agency guidance would not have an annual effect of $100 million or more on the economy nor adversely affect productivity, competition, jobs, the environment, public health or safety, nor State or local governments. This interim directive would not interfere with an action taken or planned by another agency nor raise new legal or policy issues. Finally, this interim directive would not alter the budgetary impact of entitlements, grants, user fees, or loan programs or the rights and obligations of recipients of such programs. Accordingly, this proposed action is not subject to Office of Management and Budget review under Executive Order 12866.

Moreover, this proposed action has been considered in light of the Regulatory Flexibility Act (5 U.S.C. 601 et seq. ), and it has been determined that this proposed action would not have a significant economic impact on a substantial number of small entities as defined by the act because it will not impose record-keeping requirements on them; it would not affect their competitive position in relation to large entities; and it would not affect their cash flow, liquidity, or ability to remain in the market.

Unfunded Mandates

Pursuant to Title II of the Unfunded Mandates Reform Act of 1995 (2 U.S.C. 1531-1538), which the President signed into law on March 22, 1995, the Agency has assessed the effects of this proposed action on State, local, and tribal governments and the private sector. This interim directive would not compel the expenditure of $100 million or more by any State, local, or tribal government or anyone in the private sector. Therefore, a statement under section 202 of the act is not required.

Controlling Paperwork Burdens on the Public

This interim directive does not contain any additional record-keeping or reporting requirements associated with National Forest System land management planning or other information collection requirements as defined in 5 CFR part 1320 that are not already required by law or not already approved for use. The Office of Management and Budget (OMB) (Number 0596-00158) has approved the information collection associated with the submitting an objection under the planning rule (36 CFR part 219). Accordingly, the review provisions of the Paperwork Reduction Act of 1995 (44 U.S.C. 3501 et seq. ) and its implementing regulations at 5 CFR part 1320 do not apply.

Conclusion

This interim directive provides consistent interpretation of the planning rule for line and staff officers, and interdisciplinary teams. Therefore, the Agency can fulfill its commitment to improve public involvement and decisionmaking associated with developing, amending, or revising a land management plan.

The full text of this handbook is available on the World Wide Web at http://www.fs.fed.us./im/directives. Single paper copies are available upon request from the address and telephone numbers listed earlier in this notice as well as from the nearest regional office, the location of which are also available on the Washington Office headquarters homepage on the World Wide Web at http://www.fs.fed.us.

Dated: August 21, 2008.
Abigail R. Kimbell,
Chief, Forest Service.

[FR Doc. E8-20013 Filed 8-27-08; 8:45 am]

BILLING CODE 3410-11-P